DEPARTMENT OF ENERGY

Federal Energy Regulatory Commission

Combined Notice of Filings #1

Take notice that the Commission received the following electric corporate filings:

Docket Numbers: EC15-121-000.

Applicants: Meadow Creek Project Company LLC, Goshen Phase II LLC, Canadian Hills Wind, LLC, Rockland Wind Farm LLC, Burley Butte Wind Park, LLC, Golden Valley Wind Park, LLC, Milner Dam Wind Park, LLC, Oregon Trail Wind Park, LLC, Pilgrim Stage Station Wind Park, LLC, Thousand Springs Wind Park, LLC, Tuana Gulch Wind Park, LLC, Camp Reed Wind Park, LLC, Payne's Ferry Wind Park, LLC, Salmon Falls Wind Park, LLC, Yahoo Creek Wind Park, LLC, TerraForm AP Acquisition Holdings, LLC, Wolverine Creek Goshen Interconnection L.

Description: Application for Authorization of Disposition of Jurisdictional Facilities and Requests for Waivers, Confidential Treatment and Expedited Consideration of Meadow Creek Project Company LLC, et al.

Filed Date: 4/14/15.

Accession Number: 20150414-5274.

Comments Due: 5 p.m. ET 5/5/15.

Take notice that the Commission received the following electric rate filings:

Docket Numbers: ER15-517-001.

Applicants: ISO New England Inc., Cross-Sound Cable Company, LLC.

Description: Compliance filing per 35: Supplemental Req. for Waiver of Stnds. for Bus. Prac. & Comm. Protocols to be effective 4/15/2015.

Filed Date: 4/14/15.

Accession Number: 20150414-5142.

Comments Due: 5 p.m. ET 5/5/15.

Docket Numbers: ER15-1019-000.

Applicants: Fowler Ridge IV Wind Farm LLC.

Description: Second Supplement to February 10, 2015 Fowler Ridge IV Wind Farm LLC tariff filing.

Filed Date: 4/14/15.

Accession Number: 20150414-5154.

Comments Due: 5 p.m. ET 4/21/15.

Docket Numbers: ER15-1170-001.

Applicants: Bear Mountain Limited.

Description: Tariff Amendment per 35.17(b): Supplement to MBR Application to be effective 4/30/2015.

Filed Date: 4/14/15.

Accession Number: 20150414-5203.

Comments Due: 5 p.m. ET 5/5/15.

Docket Numbers: ER15-1171-001.

Applicants: Chalk Cliff Limited.

Description: Tariff Amendment per 35.17(b): Supplement to MBR Application to be effective 4/30/2015.

Filed Date: 4/14/15.

Accession Number: 20150414-5206.

Comments Due: 5 p.m. ET 5/5/15.

Docket Numbers: ER15-1172-001.

Applicants: Live Oak Limited.

Description: Tariff Amendment per 35.17(b): Supplement to MBR Application to be effective 4/30/2015.

Filed Date: 4/14/15.

Accession Number: 20150414-5209.

Comments Due: 5 p.m. ET 5/5/15.

Docket Numbers: ER15-1173-001.

Applicants: McKittrick Limited.

Description: Tariff Amendment per 35.17(b): Supplement to MBR Application to be effective 4/30/2015.

Filed Date: 4/14/15.

Accession Number: 20150414-5212.

Comments Due: 5 p.m. ET 5/5/15.

Docket Numbers: ER15-1500-000.

Applicants: Arizona Public Service Company.

Description: Section 205(d) rate filing per 35.13(a)(2)(iii): OATT Non-substantive Revisions to be effective 6/14/2015.

Filed Date: 4/14/15.

Accession Number: 20150414-5141.

Comments Due: 5 p.m. ET 5/5/15.

Docket Numbers: ER15-1501-000.

Applicants: Duquesne Keystone, LLC.

Description: Section 205(d) rate filing per 35.13(a)(2)(iii): Revisions to MBR to be effective 4/15/2015.

Filed Date: 4/14/15.

Accession Number: 20150414-5175.

Comments Due: 5 p.m. ET 5/5/15.

Docket Numbers: ER15-1502-000.

Applicants: Duquesne Conemaugh, LLC.

Description: Section 205(d) rate filing per 35.13(a)(2)(iii): Revisions MBR to be effective 4/15/2015.

Filed Date: 4/14/15.

Accession Number: 20150414-5187.

Comments Due: 5 p.m. ET 5/5/15.

Docket Numbers: ER15-1503-000.

Applicants: Duquesne Power, LLC.

Description: Section 205(d) rate filing per 35.13(a)(2)(iii): Revisions MBR to be effective 4/15/2015.

Filed Date: 4/14/15.

Accession Number: 20150414-5190.

Comments Due: 5 p.m. ET 5/5/15.

Docket Numbers: ER15-1504-000.

Applicants: PJM Interconnection, L.L.C., Virginia Electric and Power Company.

Description: Section 205(d) rate filing per 35.13(a)(2)(iii): Dominion submits revisions to OATT Attachment H-16A and H16-C re: OPEB Expense to be effective 1/1/2014.

Filed Date: 4/14/15.

Accession Number: 20150414-5215.

Comments Due: 5 p.m. ET 5/5/15.

Docket Numbers: ER15-1505-000.

Applicants: Midcontinent Independent System Operator, Inc.

Description: Section 205(d) rate filing per 35.13(a)(2)(iii): 2015-04-14_SA 6500 Escanaba SSR Termination to be effective 6/15/2015.

Filed Date: 4/14/15.

Accession Number: 20150414-5225.

Comments Due: 5 p.m. ET 5/5/15.

Docket Numbers: ER15-1506-000.

Applicants: Midcontinent Independent System Operator, Inc.

Description: Section 205(d) rate filing per 35.13(a)(2)(iii): 2015-04-14_Cancel Schedule 43 Escanaba SSR to be effective 6/15/2015.

Filed Date: 4/14/15.

Accession Number: 20150414-5227.

Comments Due: 5 p.m. ET 5/5/15.

Docket Numbers: ER15-1507-000.

Applicants: PJM Interconnection, L.L.C.

Description: Tariff Withdrawal per 35.15: Notice of Cancellation of Service Agreement No. 3635; Queue No. V4-024 to be effective 6/2/2015.

Filed Date: 4/14/15.

Accession Number: 20150414-5236.

Comments Due: 5 p.m. ET 5/5/15.

Docket Numbers: ER15-1508-000.

Applicants: Duke Energy Florida, Inc.

Description: Section 205(d) rate filing per 35.13(a)(2)(iii): Joint OATT Real Power Loss (2015) to be effective 5/1/2015.

Filed Date: 4/15/15.

Accession Number: 20150415-5041.

Comments Due: 5 p.m. ET 5/6/15.

Docket Numbers: ER15-1509-000.

Applicants: ISO New England Inc., New England Power Pool Participants Committee.

Description: Section 205(d) rate filing per 35.13(a)(2)(iii): Do Not Exceed Real-Time Dispatch to be effective 4/10/2016.

Filed Date: 4/15/15.

Accession Number: 20150415-5062.

Comments Due: 5 p.m. ET 5/6/15.

Take notice that the Commission received the following open access transmission tariff filings:

Docket Numbers: OA07-19-011; OA07-43-012; ER07-1171-012.

Applicants: Arizona Public Service Company.

Description: Arizona Public Service Company submits its annual compliance report on penalty assessments and distributions.

Filed Date: 4/14/15.

Accession Number: 20150414-5276.

Comments Due: 5 p.m. ET 5/5/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 15, 2015.
Nathaniel J. Davis, Sr.,
Deputy Secretary.

[FR Doc. 2015-09177 Filed 4-20-15; 8:45 am]

BILLING CODE 6717-01-P